DEPARTMENT OF ENERGY

[DE-PS07-02ID14264]

Enhanced Geothermal Systems (EGS)

AGENCY: Idaho Operations Office, DOE.

ACTION: Notice of Competitive Financial Assistance Solicitation.

SUMMARY: The U.S. Department of Energy (DOE) Idaho Operations Office (ID) is seeking applications for the development of Enhanced Geothermal Systems (EGS) to expand production from geothermal resources. For purposes of this solicitation, EGS are defined as engineered reservoirs created to extract heat from economically unproductive geothermal resources. The knowledge gained from this work will result in new and improved technology that will help meet the goals of the Geothermal Program. EGS projects are sought to improve reservoir productivity and lifetime through the application of either conventional or novel engineering techniques. The objective of this solicitation is to bring new geothermal resources into production using Enhanced Geothermal Systems for the purpose of generating electric power.

DATES: The issuance date of Solicitation Number DE-PS07-02ID14264 is on or about February 14, 2002. The SF 424, and the technical application must have an IIPS transmission time stamp of not later than 5:00 p.m. ET on Monday, March 31, 2002.

ADDRESSES: Completed applications are required to be submitted via the U. S. Department of Energy Industry Interactive Procurement System (IIPS) at the following URL: http://e-center.doe.gov.

FOR FURTHER INFORMATION CONTACT: Elizabeth Dahl, Contract Specialist at dahlee@id.doe.gov, facsimile at (208) 526-5548, or by telephone at (208) 526-7214.

SUPPLEMENTARY INFORMATION: Approximately $10,000,000 in federal funds will be made available over the next five to six fiscal years. Of that amount, about $500,000 is expected to be available in fiscal year 2002 to fund one to two awards for the first budget year of the cooperative agreements stemming from this solicitation. DOE anticipates that Phase One of the award will run for approximately two budget periods and will include feasibility assessment, detailed conceptual design, field studies, and environmental approvals. Phase Two will involve construction and testing of the EGS. Phase Three is to construct permanent surface facilities including a power plant. Phase Four is to monitor reservoir and plant performance. During each phase, the Awardee must provide minimum non-federal cost share in the amounts specified as follows: Phase One—20%; Phase Two—40%; Phase Three—80%; Phase Four—100%. Only those who own, have valid leases, or legal access to unproductive geothermal properties in the U. S. and are capable of providing the necessary cost-share may submit proposals. Third party consulting groups may be part of the project team, but they are not eligible to submit proposals. National laboratories will not be eligible for an award under this solicitation. The solicitation is available in its full text via the Internet at the following address: http://e-center.doe.gov. The statutory authority for this program is the Department of Energy Organization Act of 1977, Public Law 95-238, Section 207, Public Law 101-218. The Catalog of Federal Domestic Assistance (CFDA) Number for this program is 81.087, Renewable Energy Research and Development.

Issued in Idaho Falls on February 14, 2002.
R.J. Hoyles,
Director, Procurement Services Division.

[FR Doc. 02-4254 Filed 2-21-02; 8:45 am]

BILLING CODE 6450-01-P